OFFICE OF THE UNITED STATES TRADE REPRESENTATIVE

Generalized System of Preferences (GSP): Termination of Countries Joining the European Union From Eligibility as a GSP Beneficiary Country

AGENCY: Office of the United States Trade Representative (USTR).

ACTION: Notice.

SUMMARY: As a result of their accessions to the European Union on May 1, 2004, the Czech Republic, Estonia, Hungary, Latvia, Lithuania, Poland and Slovakia were terminated as beneficiary developing countries under the U.S. GSP program on that date.

FOR FURTHER INFORMATION CONTACT: GSP Subcommittee, Office of the United States Trade Representative, USTR Annex, 1724 F Street, NW., Room F220, Washington, DC 20508 (Tel. 202-395-6971).

SUPPLEMENTARY INFORMATION: The GSP program is authorized pursuant to Title V of the Trade Act of 1974, as amended (“the Trade Act”) (19 U.S.C. 2461 et seq.). The GSP program grants duty-free treatment to designated eligible articles that are imported from designated beneficiary developing countries. Countries that cannot be designated as GSP-eligible include, among others, member states of the European Union (19 U.S.C. 2462). In Proclamation 7758 (March 1, 2004, the President, pursuant to section 502(b)(1)(C) of the Trade Act of 1974, as amended (19 U.S.C. 2462(b)(1)(C)), announced that “the designation of the Czech Republic, Estonia, Hungary, Latvia, Lithuania, Poland and Slovakia as beneficiary developing countries for purposes of the GSP is terminated for each country on the date when it becomes a European Union member state. The United States Trade Representative shall announce each such date in a notice published in the Federal Register.”

The United States Trade Representative hereby announces that May 1, 2004, was the date on which the Czech Republic, Estonia, Hungary Latvia, Lithuania, Poland and Slovakia became European Union member states.

Peter F. Allgeier,
Acting United States Trade Representative.

[FR Doc. 04-11181 Filed 5-17-04; 8:45 am]

BILLING CODE 3190-W4-P